DEPARTMENT OF HOMELAND SECURITY

Federal Emergency Management Agency

[Docket ID FEMA-2007-0008]

National Advisory Council; Meeting

AGENCY: Federal Emergency Management Agency, DHS.

ACTION: Committee Management; Notice of Open Federal Advisory Committee Meeting.

SUMMARY: The Federal Emergency Management Agency (FEMA) National Advisory Council (NAC) will meet in person on May 22-24, 2018, in San Diego, CA. The meeting will be open to the public.

DATES: The NAC will meet Tuesday, May 22, 2018, from 8:00 a.m. to 5:00 p.m., Wednesday, May 23, 2018, from 8:00 a.m. to 5:00 p.m., and Thursday, May 24, 2018, from 8:30 a.m. to 1:00 p.m. Pacific Daylight Time (PDT). Please note that the meeting may close early if the NAC has completed its business.

ADDRESSES: The meeting will be held at The Hyatt Regency Mission Bay (https://missionbay.regency.hyatt.com/en/hotel/home.html) located at 1441 Quivira Road, San Diego, CA 92109. It is recommended that attendees register with FEMA by May 18, 2018, by providing their name, telephone number, email address, title, and organization to the person listed in the FOR FURTHER INFORMATION CONTACT below.

For information on facilities or services for people with disabilities and others with access and functional needs (including people who use mobility aids, require medication or portable medical equipment, use service animals, need information in alternate formats, or rely on personal assistance services), or to request assistance at the meeting, contact the person listed in the FOR FURTHER INFORMATION CONTACT below as soon as possible.

To facilitate public participation, members of the public are invited to provide written comments on the issues to be considered by the NAC. The “Agenda” section below outlines these issues. The full agenda and any related documents for this meeting will be posted by Friday, May 18, 2018, on the NAC website at http://www.fema.gov/national-advisory-council. Written comments must be submitted and received by 5:00 p.m. Eastern Daylight Time on May 18, 2018, identified by Docket ID FEMA-2007-0008, and submitted by one of the following methods:

• Federal eRulemaking Portal: http://www.regulations.gov. Follow the instructions for submitting comments.

• Email: FEMA-RULES@fema.dhs.gov. Include the docket number in the subject line of the message.

• Fax: (540) 504-2331. Please include a cover sheet addressing the fax to ATTN: Deana Platt.

• Mail: Regulatory Affairs Division, Office of Chief Counsel, FEMA, 500 C Street SW, Room 8NE, Washington, DC 20472-3100.

Instructions: All submissions must include the words “Federal Emergency Management Agency” and the docket number for this action. Comments received, including any personal information provided, will be posted without alteration at http://www.regulations.gov.

Docket: For access to the docket to read comments received by the NAC, go to http://www.regulations.gov, and search for Docket ID FEMA-2007-0008.

A public comment period will be held on Wednesday, May 23, 2018, from 1:00 p.m. to 1:15 p.m. PDT. All speakers must limit their comments to 5 minutes. Comments should be addressed to the NAC. Any comments not related to the agenda topics will not be considered by the NAC. To register to make remarks during the public comment period, contact the individual listed in the FOR FURTHER INFORMATION CONTACT by May 18, 2018. Please note that the public comment period may end before the time indicated, following the last call for comments.

FOR FURTHER INFORMATION CONTACT: Deana Platt, Designated Federal Officer, Office of the National Advisory Council, Federal Emergency Management Agency, 500 C Street SW, Washington, DC 20472-3184, telephone (202) 646-2700, Fax (540) 504-2331, and email FEMA-NAC@fema.dhs.gov. The NAC website is: http://www.fema.gov/national-advisory-council.

SUPPLEMENTARY INFORMATION: Notice of this meeting is given under the Federal Advisory Committee Act, 5 U.S.C. Appendix.

The NAC advises the FEMA Administrator on all aspects of emergency management. The NAC incorporates input from State, local, and Tribal governments, and the private sector in the development and revision of FEMA plans and strategies. The NAC includes a cross-section of officials, emergency managers, and emergency response providers from State, local, and Tribal governments, the private sector, and nongovernmental organizations.

Agenda: On Tuesday, May 22, 2018, the NAC will hear about priorities across FEMA Regions from the Region IX team and receive briefings on response and recovery, protection and national preparedness, and the Integrated Public Alert and Warning System Subcommittee to the NAC.

On Wednesday, May 23, 2018, the NAC will hear an update on flood insurance and mitigation and a separate update on strategic priorities from the FEMA Administrator. The three permanent and one ad-hoc NAC subcommittees (Federal Insurance and Mitigation Subcommittee, Preparedness and Protection Subcommittee, Response and Recovery Subcommittee, and Tribal Subcommittee) will discuss and deliberate on their potential recommendations and, if appropriate, vote on recommendations for the FEMA Administrator. Potential recommendation topics include (1) building a culture of preparedness, (2) simplifying recovery programs, and (3) promoting pre-disaster mitigation.

On Thursday, May 24, 2018, the NAC will review potential topics for research before the next in-person meeting, discuss recent disasters, review agreed upon recommendations, and confirm charges for the subcommittees.

The full agenda and any related documents for this meeting will be posted by Friday, May 18, 2018, on the NAC website at http://www.fema.gov/national-advisory-council.

Dated: April 24, 2018.
Brock Long,
Administrator, Federal Emergency Management Agency.

[FR Doc. 2018-09075 Filed 4-27-18; 8:45 am]

BILLING CODE 9111-48-P